DEPARTMENT OF HOMELAND SECURITY

Federal Emergency Management Agency

[Docket ID FEMA-2014-0002; Internal Agency Docket No. FEMA-B-1421]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Jefferson | City of Clay (14-04-2938P) | The Honorable Charles Webster, Mayor, City of Clay, P.O. Box 345, Clay, AL 35048 | City Hall, 2441 Old Springville Road, Birmingham, AL 35125 | http://www.msc.fema.gov/lomc | August 14, 2014 | 010446
Jefferson | Unincorporated Areas of Jefferson County (14-04-2938P) | The Honorable David Carrington, Chairman, Jefferson County Commission, 716 Richard Arrington Jr., Boulevard North, Birmingham, AL 35203 | Jefferson County Land Development Department, 716 North 21st Street, Room 202A, Birmingham, AL 35263 | http://www.msc.fema.gov/lomc | August 14, 2014 | 010217
Arizona:
Coconino | Unincorporated Areas of Coconino County (14-09-0827P) | The Honorable Matt Ryan, Chairman, Coconino County Board of Supervisors, 219 East Cherry Avenue, Flagstaff, AZ 86001 | Community Development Department, Engineering Division, 2500 North Fort Valley Road, Building 1, Flagstaff, AZ 86001 | http://www.msc.fema.gov/lomc | July 14, 2014 | 040019
Maricopa | City of Peoria (14-09-0517P) | The Honorable Bob Barrett, Mayor, City of Peoria, 8401 West Monroe Street, Peoria, AZ 85345 | City Hall, 8401 West Monroe Street, Peoria, AZ 85345 | http://www.msc.fema.gov/lomc | August 1, 2014 | 040050
Maricopa | City of Scottsdale (13-09-3424P) | The Honorable J. W. Lane, Mayor, City of Scottsdale, 3939 North Drinkwater Boulevard, Scottsdale, AZ 85251 | City Hall, 3939 North Drinkwater Boulevard Scottsdale, AZ 85251 | http://www.msc.fema.gov/lomc | July 11, 2014 | 045012
Maricopa | City of Scottsdale (14-09-0385P) | The Honorable W. J. Lane, Mayor, City of Scottsdale, 3939 North Drinkwater Boulevard, Scottsdale, AZ 85251 | City Hall, 3939 North Drinkwater Boulevard, Scottsdale, AZ 85251 | http://www.msc.fema.gov/lomc | July 18, 2014 | 045012
Maricopa | City of Surprise (13-09-2884P) | The Honorable Sharon Wolcott, Mayor, City of Surprise, 16000 North Civic Center Plaza, Surprise, AZ 85374 | Community Services Department, 12425 West Bell Road, Suite D-100 Surprise, AZ 85374 | http://www.msc.fema.gov/lomc | June 20, 2014 | 040053
Maricopa | Unincorporated Areas of Maricopa County (13-09-2884P) | The Honorable Denny Barney, Chairman, Maricopa County Board of Supervisors, 301 West Jefferson, 10th Floor, Phoenix, AZ 85003 | Maricopa County Flood Control District, 2801 West Durango Street, Phoenix, AZ 85009 | http://www.msc.fema.gov/lomc | June 20, 2014 | 040037
Pinal | Unincorporated Areas of Pinal County (14-09-0882P) | The Honorable Anthony Smith, Chairman, Pinal County Board of Supervisors, 41600 West Smith Enke Road, Suite 128, Maricopa, AZ 85138 | Pinal County Engineering Department, 31 North Pinal Street, Building F, Florence, AZ 85232 | http://www.msc.fema.gov/lomc | August 8, 2014 | 040077
Yavapai | Town of Prescott Valley (13-09-1658P) | The Honorable Harvey C. Skoog, Mayor, Town of Prescott Valley, 7501 East Civic Circle, Prescott Valley, AZ 86314 | Engineering Division, 7501 East Civic Circle, Prescott Valley, AZ 86314 | http://www.msc.fema.gov/lomc | July 25, 2014 | 040121
Yavapai | Unincorporated Areas of Yavapai County (13-09-1658P) | The Honorable Rowle P. Simmons, Chairman, Yavapai County Board of Supervisors, 1015 Fair Street, Prescott, AZ 86305 | Yavapai County Flood Control District, 1120 Commerce Drive, Prescott, AZ 86305 | http://www.msc.fema.gov/lomc | July 25, 2014 | 040093
California:
Orange | City of Newport Beach (14-09-1616P) | The Honorable Rush N. Hill, II, Mayor, City of Newport Beach, 100 Civic Center Drive, Newport Beach, CA 92660 | City Hall, 100 Civic Center Drive, Newport Beach, CA 92660 | http://www.msc.fema.gov/lomc | July 11, 2014 | 060227
Tulare | City of Porterville (13-09-3041P) | The Honorable Cameron J. Hamilton, Mayor, City of Porterville, 291 North Main Street, Porterville, CA 93257 | Public Works Department, 291 North Main Street, Porterville, CA 93257 | http://www.msc.fema.gov/lomc | July 25, 2014 | 060407
Colorado:
Arapahoe | City of Centennial (14-08-0302P) | The Honorable Cathy Noon, Mayor, City of Centennial, 13133 East Arapahoe Road Centennial, CO 80112 | Southeast Metro Stormwater Authority, 76 Inverness Drive East, Suite A, Centennial, CO 80112 | http://www.msc.fema.gov/lomc | July 18, 2014 | 080315
Arapahoe | City of Greenwood Village (14-08-0302P) | The Honorable Ron Rakowsky, Mayor, City of Greenwood Village, 6060 South Quebec Street, Greenwood Village, CO 80111 | City Hall, 6060 South Quebec Street, Greenwood Village, CO 80111 | http://www.msc.fema.gov/lomc | July 18, 2014 | 080195
Delta | City of Delta (14-08-0144P) | The Honorable Ed Sisson, Mayor, City of Delta, 360 Main Street Delta, CO 81416 | City Hall, 360 Main Street, Delta, CO 81416 | http://www.msc.fema.gov/lomc | August 7, 2014 | 080043
Larimer | City of Fort Collins (13-08-1143P) | The Honorable Karen Weitkunat, Mayor, City of Fort Collins, 3009 Phoenix Drive, Fort Collins, CO 80525 | Stormwater Utilities Department, 700 Wood Street, Fort Collins, CO 80521 | http://www.msc.fema.gov/lomc | July 25, 2014 | 080102
Florida:
Broward | City of Hollywood (14-04-2264P) | The Honorable Peter J. M. Bober, Mayor, City of Hollywood, P.O. Box 229045, Hollywood, FL 33022 | City Hall, 2600 Hollywood Boulevard, Hollywood, FL 33020 | http://www.msc.fema.gov/lomc | July 11, 2014 | 125113
Charlotte | Unincorporated Areas of Charlotte County (13-04-8283P) | The Honorable Ken Doherty, Chairman, Charlotte County, Board of Commissioners, 18500 Murdock Circle, Port Charlotte, FL 33948 | Charlotte County Community Development Department, 18500 Murdock Circle, Port Charlotte, FL 33948 | http://www.msc.fema.gov/lomc | July 14, 2014 | 120061
Lee | Unincorporated Areas of Lee County (14-04-3452X) | The Honorable Larry Kiker, Chairman, Lee County Board of Commissioners, 2115 2nd Street, Fort Myers, FL 33901 | Lee County Community Development Department, 1500 Monroe Street, 2nd Floor, Fort Myers, FL 33901 | http://www.msc.fema.gov/lomc | August 1, 2014 | 125124
Manatee | Unincorporated Areas of Manatee County (14-04-1072P) | The Honorable Larry Bustle, Chairman, Manatee County Board of Commissioners, P.O. Box 1000, Bradenton, FL 34206 | Manatee County Building and Development Services Department, 1112 Manatee Avenue West, Bradenton, FL 34205 | http://www.msc.fema.gov/lomc | July 14, 2014 | 120153
Monroe | Unincorporated Areas of Monroe County (14-04-0921P) | The Honorable Sylvia Murphy, Mayor, Monroe County, 1100 Simonton Street, Key West, FL 33040 | Monroe County Public Works Department, 1100 Simonton Street, Key West, FL 33040 | http://www.msc.fema.gov/lomc | July 25, 2014 | 125129
Monroe | Unincorporated Areas of Monroe County (14-04-1809P) | The Honorable Sylvia Murphy, Mayor, Monroe County, 1100 Simonton Street, Key West, FL 33040 | Monroe County Public Works Department, 1100 Simonton Street, Key West, FL 33040 | http://www.msc.fema.gov/lomc | July 25, 2014 | 125129
Orange | City of Orlando (13-04-4686P) | The Honorable Buddy Dyer, Mayor, City of Orlando, P.O. Box 4990, Orlando, FL 32802 | Permitting Services Division, 400 South Orange Avenue, Orlando, FL 32801 | http://www.msc.fema.gov/lomc | August 8, 2014 | 120186
Orange | City of Winter Park (13-04-4686P) | The Honorable Kenneth W. Bradley, Mayor, City of Winter Park, 401 South Park Avenue, Winter Park, FL 32789 | Building Department, 401 South Park Avenue, Winter Park, FL 32789 | http://www.msc.fema.gov/lomc | August 8, 2014 | 120188
Orange | Unincorporated Areas of Orange County (13-04-4686P) | The Honorable Teresa Jacobs, Mayor, Orange County, 201 South Rosalind Avenue, 5th Floor, Orlando, FL 32801 | Orange County Stormwater Management Department, 4200 South John Young Parkway, Orlando, FL 32839 | http://www.msc.fema.gov/lomc | August 8, 2014 | 120179
Polk | City of Bartow (13-04-7607P) | The Honorable James F. Clements, Mayor, City of Bartow, 450 North Wilson Avenue, Bartow, FL 33830 | Building Department, 450 North Wilson Avenue, Bartow, FL 33830 | http://www.msc.fema.gov/lomc | July 17, 2014 | 120263
Polk | Unincorporated Areas of Polk County (13-04-7607P) | The Honorable R. Todd Dantzler, Chairman, Polk County Board of Commissioners, P.O. Box 9005, Bartow, FL 33831 | Polk County Engineering Division, 330 West Church Street, Bartow, FL 33830 | http://www.msc.fema.gov/lomc | July 17, 2014 | 120261
Sumter | Unincorporated Areas of Sumter County (14-04-3677P) | The Honorable Al Butler, Chairman, Sumter County Board of Commissioners, 7375 Powell Road, Wildwood, FL 34785 | Sumter County Planning Department, 7375 Powell Road, Wildwood, FL 34785 | http://www.msc.fema.gov/lomc | August 1, 2014 | 120296
Montana: Fallon | Unincorporated Areas of Fallon County (13-08-0962P) | The Honorable Deb Ranum, Chair, Fallon County Board of Commissioners, P.O. Box 846, Baker, MT 59313 | Fallon County Courthouse, Office of the Clerk and Recorder, 10 West Fallon Avenue, Baker, MT 59393 | http://www.msc.fema.gov/lomc | June 30, 2014 | 300149
Nevada:
Clark | Unincorporated Areas of Clark County (13-09-3209P) | The Honorable Steve Sisolak, Chairman, Clark County Board of Commissioners, 500 South Grand Central Parkway, Las Vegas, NV 89155 | Clark County Public Works Department, 500 Grand Central Parkway, Las Vegas, NV 89155 | http://www.msc.fema.gov/lomc | August 1, 2014 | 320003
Douglas | Unincorporated Areas of Douglas County (13-09-3099P) | The Honorable Doug Johnson, Chairman, Douglas County Board of Commissioners, P.O. Box 218, Minden, NV 89423 | Douglas County Planning Division, 1594 Ismeralda Avenue, Minden, NV 89423 | http://www.msc.fema.gov/lomc | August 1, 2014 | 320008
New York: Westchester | Village of Mamaroneck (14-02-0594P) | The Honorable Norman S. Rosenblum, Mayor, Village of Mamaroneck, 123 Mamaroneck Avenue, Mamaroneck, NY 10543 | Building Inspector's Office, 123 Mamaroneck Avenue, Mamaroneck, NY 10543 | http://www.msc.fema.gov/lomc | September 26, 2014 | 360916
North Carolina:
Cumberland | City of Fayetteville (14-04-1195P) | The Honorable Nat Robertson, Mayor, City of Fayetteville, 433 Hay Street, Fayetteville, NC 28301 | Planning Department, 433 Hay Street, Fayetteville, NC 28301 | http://www.msc.fema.gov/lomc | August 5, 2014 | 370077
Rockingham | City of Reidsville (13-04-2888P) | The Honorable John M. “Jay” Donecker, Mayor, City of Reidsville, 230 West Moreshead Street, Reidsville, NC 27320 | City Hall, 230 West Moreshead, Street, Reidsville, NC 27320 | http://www.msc.fema.gov/lomc | July 7, 2014 | 370209
Wake | City of Raleigh (13-04-5462P) | The Honorable Nancy McFarlane, Mayor, City of Raleigh, P.O. Box 590, Raleigh, NC 27602 | Public Works Department, 222 West Hargett Street, Raleigh, NC 27601 | http://www.msc.fema.gov/lomc | August 18, 2014 | 370243
Wake | Town of Fuquay-Varina (13-04-4877P) | The Honorable John W. Byrne, Mayor, Town of Fuquay-Varina, 401 Old Honeycutt Road, Fuquay-Varina, NC 27526 | Planning Department, 401 Old Honeycutt Road, Fuquay-Varina, NC 27526 | http://www.msc.fema.gov/lomc | June 30, 2014 | 370239
Tennessee: Rutherford | Unincorporated Areas of Rutherford County (13-04-7742P) | The Honorable Earnest Burgess, Mayor, Rutherford County, 1 Public Square South, Room 101, Murfreesboro, TN 37130 | Rutherford County Planning and Engineering Department, 1 Public Square South, Room 200, Murfreesboro, TN 37130 | http://www.msc.fema.gov/lomc | July 25, 2014 | 470165
Utah:
Salt Lake | Town of Herriman (14-08-0040P) | The Honorable Carmen Freeman, Mayor, Town of Herriman, 13011 South Pioneer Street, Herriman, UT 84096 | Town Hall, 13011 South Pioneer Street, Herriman, UT 84096 | http://www.msc.fema.gov/lomc | July 18, 2014 | 490252
Salt Lake | Unincorporated Areas of Salt Lake County (13-08-0707P) | The Honorable Ben McAdams, Mayor, Salt Lake County, 2001 South State Street, Suite N2100, Salt Lake City, UT 84190 | Public Works Department, 2001 South State Street, Suite N3100, Salt Lake City, UT 84190 | http://www.msc.fema.gov/lomc | July 11, 2014 | 490102

(Catalog of Federal Domestic Assistance No. 97.022, “Flood Insurance.”)

Dated: June 17, 2014.
Roy E. Wright,
Deputy Associate Administrator for Mitigation, Department of Homeland Security, Federal Emergency Management Agency.

[FR Doc. 2014-15832 Filed 7-7-14; 8:45 am]

BILLING CODE 9110-12-P